DEPARTMENT OF COMMERCE

National Oceanic and Atmospheric Administration

[RTID 0648-XC003]

Nominations for U.S. Commissioners to Regional Fisheries Management Organizations

AGENCY: National Marine Fisheries Service (NMFS), National Oceanic and Atmospheric Administration (NOAA), Commerce.

ACTION: Notice; call for nominations.

SUMMARY: NMFS is soliciting nominations, which may include self-nominations, for qualified individuals to serve as non-Federal U.S. Commissioners (Commissioners) to certain regional fisheries management organizations (RFMOs). This action is being undertaken to enhance transparency in the process of identifying potential candidates for Commissioner positions and to increase diversity in the candidate pool to help ensure the views and interests of the range of U.S. stakeholders are considered in the process of developing and advancing U.S. positions at RFMOs. Nominations are open to all qualified individuals and may include current or previous Commissioners and Alternate Commissioners for certain RFMOs where eligible.

DATES: Nominations and any supporting documentation must be received by July 8, 2022.

ADDRESSES: Nominations for U.S. Commissioners may be submitted electronically to: nmfs.rfmo.@noaa.gov. Please include “Nomination for __” and the relevant organization(s) in the subject line of the message (e.g., “Nomination for WCPFC”, etc.).

FOR FURTHER INFORMATION CONTACT: Terra Lederhouse, phone (301) 427-8360, or by email at Terra.Lederhouse@noaa.gov.

SUPPLEMENTARY INFORMATION:

Background

Because fish and other marine species cross national boundaries, the United States shares living marine resources with other countries. The way other countries manage these shared marine resources can directly affect the status and long-term use of fish stocks and protected or endangered species of importance to the United States. For this reason, the United States participates in several RFMOs, which are treaty-based bodies whose objective is to ensure the sustainable conservation and management of shared fish stocks and other living marine resources through international cooperation. Each RFMO has regularly scheduled meetings in which nations adopt binding conservation and management measures, and throughout the year, there are typically intersessional meetings of RFMO subsidiary bodies to address specific scientific and management issues.

The United States is represented in the below-described RFMOs by Commissioners who are appointed by the President or the Secretary of Commerce, depending on the organization. The lead U.S. Commissioner to each RFMO is an employee of the Federal Government. Non-Federal Commissioners are selected from among individuals with fisheries knowledge and experience as described in U.S. statutes that implement the RFMO treaties. The Commissioners may participate in meetings of advisory committees and in other meetings to help develop the United States' positions for RFMO meetings. The Commissioners then serve on the U.S. delegations to RFMO meetings where they must support the finalized, U.S. positions on the conservation and management of shared living marine resources even in cases where such positions may be contrary or different to their views or advice. The Secretary of State, in consultation with the Secretary of Commerce, may designate Alternate U.S. Commissioners to serve in the absence of a U.S. Commissioner.

The purpose of this notice is to solicit nominations for individuals to serve as non-Federal U.S. Commissioners to certain RFMOs. NMFS, and the U.S. government more generally, are committed to advancing diversity, equity, inclusion, and accessibility at all levels, including within the communities we serve and protect. Consistent with this commitment, NMFS is taking steps aimed at increasing the diversity of stakeholder voices that represent the United States in our international fisheries engagements, including by promoting greater diversity and representation of underserved communities in the pool of potential candidates for appointment as non-Federal U.S. Commissioners to RFMOs. Through this notice, NMFS is also taking steps to advance a transparent process that promotes equity, inclusion, and accessibility when seeking nominees to serve in these important roles. As such, NMFS encourages nominations for women and for individuals from underserved communities that meet the knowledge, experience, and other legal requirements of the positions described in this notice. See Executive Order (E.O.) 13985 (Advancing Racial Equity and Support for Underserved Communities Through the Federal Government) § 2 (defining “underserved communities” as “populations sharing a particular characteristic, as well as geographic communities, that have been systematically denied a full opportunity to participate in aspects of economic, social, and civic life,” “such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.”). E.O. 13985 is available at https://www.federalregister.gov/documents/2021/01/25/2021-01753/advancing-racial-equity-and-support-for-underserved-communities-through-the-federal-government.

NMFS is soliciting nominations for individuals who are qualified to serve as U.S. Commissioners to the RFMOs described below. NMFS' goal is to have on-hand a pool of qualified candidates, who meet qualifications under the relevant RFMO treaty implementing statutes and who can be considered, as the need arises, for recommendations for U.S. Commissioner vacancies. This pool may also be considered, as the need arises, for designation of Alternate Commissioners. Current Commissioners that are interested in being included in the pool of qualified candidates may, but are not required to, indicate as such through self-nomination or nomination by someone else. Separate from any nominations received per this notice, NMFS and/or its federal agency partners may also independently make Commissioner recommendations.

Inter-American Tropical Tuna Commission (IATTC)

IATTC is an intergovernmental organization established under the 1949 Convention for the Establishment of an Inter-American Tropical Tuna Commission. In 2003, IATTC adopted the Convention for the Strengthening of the IATTC Established by the 1949 Convention between the United States of America and the Republic of Costa Rica (Antigua Convention). The Antigua Convention entered into force in 2010. The United States acceded to the Antigua Convention on February 24, 2016. IATTC consists of 21 member nations and five cooperating non-member nations and facilitates scientific research into, as well as the conservation and management of, tuna and tuna-like species in the IATTC Convention Area. The IATTC Convention Area is defined as waters of the eastern Pacific Ocean within the area bounded by the west coast of the Americas and by 50° N latitude, 150° W longitude, and 50° S latitude. IATTC maintains a scientific research and fishery monitoring program and regularly assesses the status of tuna, sharks, and billfish stocks in the IATTC Convention Area to determine appropriate catch limits and other measures deemed necessary to promote sustainable fisheries and prevent the overexploitation of these stocks. More information on IATTC can be found at https://www.iattc.org/.

As a Party to the Antigua Convention and a member of IATTC, the United States is legally bound to implement decisions of the IATTC. The Tuna Conventions Act (16 U.S.C. 951 et seq.) directs the Secretary of Commerce, in consultation with the Secretary of State and, with respect to enforcement measures, the U.S. Coast Guard, to promulgate such regulations as may be necessary to carry out the United States' obligations under the Antigua Convention, including recommendations and decisions adopted by the IATTC. This work is carried out by NMFS.

The Tuna Conventions Act (16 U.S.C. 951 et seq.) requires that the United States be represented on the IATTC by four U.S. Commissioners. 16 U.S.C. 952(a). U.S. Commissioners are appointed by the President and must be knowledgeable or experienced concerning highly migratory fish stocks in the eastern tropical Pacific Ocean. Of the U.S. Commissioners:

(1) One shall be an officer or employee of the Department of Commerce; and

(2) Not more than two United States Commissioners may be appointed who reside in a State other than a State whose vessels maintain a substantial fishery in the area of the Convention.

In addition, the Secretary of State, in consultation with the Secretary, may designate from time to time and for periods of time deemed appropriate Alternate U.S. Commissioners to the IATTC. 16 U.S.C. 952(b). Any Alternate U.S. Commissioner may exercise, at any meeting of the IATTC or of the General Advisory Committee or Scientific Advisory Subcommittee, all powers and duties of a U.S. Commissioner in the absence of any appointed U.S. Commissioner for whatever reason. The number of such Alternate U.S. Commissioners that may be designated for any such meeting shall be limited to the number of U.S. Commissioners appointed who will not be present at such meeting.

Commissioners who are not officers or employees of the United States Government are not considered to be Federal employees except for the purposes of injury compensation or tort claims liability as provided in chapter 81 of title 5 and chapter 171 of title 28. 16 U.S.C. 952(c)(1).

In carrying out their official duties, a certain amount of travel to both domestic and international destinations is required. The total number of trips varies from year-to-year but may include up to three trips lasting a week or less and one trip, usually to an international destination, lasting up to two weeks. Necessary travel expenses are paid by the U.S. Department of State as provided under 16 U.S.C. 952(c)(3). Commissioners (or Alternate Commissioners, see 16 U.S.C. 952(b)) receive no compensation for their services. 16 U.S.C. 952(c)(2).

International Commission for the Conservation of Atlantic Tunas (ICCAT)

ICCAT is an intergovernmental organization established under the International Convention for the Conservation of Atlantic Tunas (ICCAT Convention) to provide an effective program of international cooperation in research and conservation in recognition of the unique problems related to the highly migratory nature of tuna and tuna-like species. The ICCAT Convention entered into force in 1969, and the Convention Area includes all waters of the Atlantic Ocean, including the adjacent Seas. In addition to tuna and tuna-like species, ICCAT has adopted measures for sharks and certain other species, such as seabirds and sea turtles, caught in association with ICCAT fisheries. The ICCAT Commission holds an annual meeting in November of each year, which generally runs between 8-10 days. ICCAT also convenes meetings of working groups and other ICCAT subsidiary bodies each year between annual meetings to advance specific issues. More information on ICCAT can be found at www.iccat.int.

Atlantic highly migratory species are managed domestically under the dual authority of the Magnuson-Stevens Fishery Conservation and Management Act (MSA), 16 U.S.C. 1801 et seq., and the Atlantic Tunas Convention Act (ATCA), 16 U.S.C. 971 et seq. ATCA requires the Secretary of Commerce to promulgate such regulations as may be necessary and appropriate to implement ICCAT recommendations, and this work is carried out by NMFS.

Section 971a of ATCA (16 U.S.C. 971 et seq.) requires that the United States be represented at ICCAT by not more than three Commissioners. 16 U.S.C. 971a(a)(1). U.S. Commissioners are appointed by and serve at the pleasure of the President. ATCA provides that the term of a Commissioner is 3 years. Non-government Commissioners are not eligible to serve more than two consecutive terms. 16 U.S.C. 971a(a)(3). Of the Commissioners, ATCA at 16 U.S.C. 971a(a)(2) provides that:

(1) Not more than one shall be a salaried employee of any State or political subdivision thereof, or the Federal Government;

(2) One shall be appointed from among individuals with knowledge and experience regarding commercial fishing in the Atlantic Ocean, Gulf of Mexico, or Caribbean Sea; and

(3) One shall be appointed from among individuals with knowledge and experience regarding recreational fishing in the Atlantic Ocean, Gulf of Mexico, or Caribbean Sea.

Non-government commissioners are not considered to be Federal employees except for the purposes of injury compensation or tort claims liability as provided in chapter 81 of title 5 and chapter 171 of title 28. 16 U.S.C. 971a(a)(1).

In carrying out their official duties, a certain amount of travel to both domestic and international destinations is required. The total number of trips varies from year-to-year but may include up to six trips lasting a week or less and one trip, usually to an international destination, lasting up to two weeks. Necessary travel expenses are paid by the U.S. Department of State as provided under ATCA at 16 U.S.C. 971a(d). Commissioners (or Alternate Commissioners, see 16 U.S.C. 971a(b)) receive no compensation for their services.

International Pacific Halibut Commission (IPHC)

IPHC is a bilateral organization established pursuant to the Convention between Canada and the United States for the Preservation of the Halibut Fishery of the North Pacific Ocean and Bering Sea (Halibut Convention). The Halibut Convention was signed at Ottawa, Ontario, on March 2, 1953, and was amended by a Protocol Amending the Convention signed at Washington, DC, on March 29, 1979. The Halibut Convention's central objective is to develop the stocks of Pacific halibut in waters off the west coasts of Canada and the United States to levels that will permit the optimum yield from the Pacific halibut fishery and to maintain the stocks at those levels. IPHC fulfills this objective in part by recommending Pacific halibut fishery conservation and management measures for approval by the United States and Canada. More information on IPHC can be found at https://www.iphc.int.

Pursuant to section 5(b)(1) of the Northern Pacific Halibut Act of 1982 (16 U.S.C. 773c(b)(1)), the Secretary of Commerce adopts such regulations as may be necessary to carry out the purposes and objectives of the Halibut Convention.

Section 3 of the Northern Pacific Halibut Act of 1982 (16 U.S.C. 773a) requires that the United States be represented on IPHC by three U.S. Commissioners. U.S. Commissioners are appointed by and serve at the pleasure of the President for a term not to exceed two years, but are eligible for reappointment. Of the Commissioners:

(1) One must be an official of the National Oceanic and Atmospheric Administration; and

(2) One must be a resident of Alaska that is knowledgeable or experienced concerning the Northern Pacific halibut fishery;

(3) One must be a nonresident of Alaska that is knowledgeable or experienced concerning the Northern Pacific halibut fishery; and

(4) Of the three commissioners, one must also be a voting member of the North Pacific Fishery Management Council.

Commissioners who are not currently Federal employees will not be considered to be Federal employees except for the purposes of injury compensation or tort claims liability as provided in section 8101 et seq. of title 5 and section 2671 et seq. of title 28, United States Code.

In carrying out their official duties, a certain amount of travel to both domestic and international destinations is required. The total number of trips varies from year-to-year but may include up to three trips lasting a week or less. Necessary travel expenses are paid by the U.S. Department of State. Commissioners receive no compensation for their services.

Northwest Atlantic Fisheries Organization (NAFO)

NAFO is an intergovernmental fisheries management body established in 1979 by the Convention on Future Multilateral Cooperation in the Northwest Atlantic Fisheries (NAFO Convention). The United States acceded to the NAFO Convention in 1995, and has participated actively in NAFO since that time. In 2005, NAFO launched a reform effort to amend the Convention in order bring the Organization more in line with the principles of modern fisheries management. As a result of these efforts, the Amendment to the Convention on Future Multilateral Cooperation in the Northwest Atlantic Fisheries entered into force in May 2017. NAFO's Commission is responsible for the management and conservation of the fishery resources in the international waters of the Northwest Atlantic, except salmon, tunas/marlins, whales, and sedentary species such as shellfish. More information on NAFO can be found at https://www.nafo.int/.

Pursuant to the Northwest Atlantic Fisheries Convention Act of 1995 (16 U.S.C. 76), the Secretary of Commerce promulgates regulations as may be necessary to carry out the purposes and objectives of the NAFO Convention, including NAFO conservation and management measures.

The Northwest Atlantic Fisheries Convention Act of 1995 requires that the United States be represented at NAFO by not more than three Commissioners. U.S. Commissioners are appointed by and serve at the pleasure of the Secretary of Commerce for a term that may not exceed four years. Non-government Commissioners are not eligible to serve more than two consecutive terms as a Commissioner, but are eligible for reappointment. Each Commissioner must be knowledgeable and experienced concerning the fishery resources to which the NAFO Convention applies. Of the Commissioners:

(1) One, but not more than one, must be an official of the Government;

(2) At least one must be a representative of the commercial fishing industry; and

(3) One must be a voting (non-Government employee) member of the New England Fishery Management Council.

Commissioners who are not currently Federal employees are not considered to be Federal employees except for the purposes of injury compensation or tort claims liability as provided under chapter 81 of title 5 and chapter 171 of title 28.

In carrying out their official duties, a certain amount of travel to both domestic and international destinations is required. The total number of trips varies from year-to-year but may include up to three trips lasting a week or less and one trip, usually to an international destination, lasting up to two weeks. Necessary travel expenses are paid by the U.S. Department of State. Commissioners receive no compensation for their services.

North Atlantic Salmon Conservation Organization (NASCO)

NASCO is an intergovernmental organization established in 1984 by the Convention for the Conservation of Salmon in the North Atlantic Ocean, 1982 (NASCO Convention), with the objective to conserve, restore, enhance and rationally manage Atlantic salmon through international cooperation, taking account of best available scientific information. The NASCO Convention applies to the salmon stocks that migrate beyond areas of fisheries jurisdiction of coastal States of the Atlantic Ocean north of 36 degrees N latitude throughout their migratory range. More information on NASCO can be found at https://nasco.int/.

Pursuant to the Atlantic Salmon Convention Act of 1982 (16 U.S.C. 3601), the Secretary of Commerce, in cooperation with the Secretary of the Interior and the Secretary of the department in which the Coast Guard is operating, promulgate such regulations pursuant to section 553 of title 5, United States Code, as may be necessary to carry out the purposes and objectives of the Convention and that title, and to implement regulatory measures that are binding on the United States under the Convention.

The Atlantic Salmon Convention Act of 1982 provides that the United States shall be represented in NASCO by three U.S. Commissioners, appointed by and to serve at the pleasure of the President. Of the three Commissioners:

(1) One must be an official of the U.S. Government; and

(2) Two must be individuals (not officials of the U.S. Government) who are knowledgeable or experienced in the conservation and management of salmon of U.S. origin.

Non-government commissioners are not considered to be Federal employees except for the purposes of injury compensation or tort claims liability as provided in chapter 81 of title 5 and chapter 171 of title 28.

In carrying out their official duties, a modest amount of travel to both domestic and international destinations is required. The total number of trips varies from year-to-year but may include up to three trips lasting a maximum of a few days each and one trip, usually to an international destination, lasting one week. Necessary travel expenses are paid by the U.S. Department of State. Commissioners receive no compensation for their services.

North Pacific Anadromous Fish Commission (NPAFC)

NPAFC is an intergovernmental organization established by the Convention for the Conservation of Anadromous Stocks in the North Pacific Ocean (NPAFC Convention). The NPAFC Convention was signed on February 11, 1992, and took effect on February 16, 1993. The objective of the Commission is to promote the conservation of anadromous stocks (Pacific salmon and steelhead trout) in the Convention Area. The Convention Area includes the international waters of the North Pacific Ocean and its adjacent seas north of 33° North beyond the 200-mile zone (exclusive economic zones) of the coastal States. More information on NPAFC can be found at https://npafc.org/.

Pursuant to the North Pacific Anadromous Stocks Act of 1992 (16 U.S.C. 5006), the Secretary of Commerce, in consultation with the Secretary of Transportation and the U.S. Commissioners, is responsible for issuing regulations as may be necessary to carry out the purposes and objectives of the Convention and the Act.

The North Pacific Anadromous Stocks Act of 1992 provides that the United States shall be represented on the NPAFC by not more than three U.S. Commissioners, appointed by and to serve at the pleasure of the President for a term not to exceed four years, but are eligible for reappointment. 16 U.S.C. 5003(a). Of the Commissioners:

(1) One must be an official of the U.S. Government;

(2) One must be a resident of the State of Alaska who is knowledgeable or experienced concerning anadromous stocks and ecologically-related species of the North Pacific Ocean; and

(3) One must be a resident of the State of Washington who is knowledgeable or experienced concerning anadromous stocks and ecologically-related species of the North Pacific Ocean.

The U.S. Commissioners, in consultation with an advisory panel, identify and recommend to the NPAFC research needs and priorities for anadromous stocks and ecologically-related species and oversee research programs involving such fisheries, stocks, and species. 16 U.S.C. 5003(c). Anadromous stocks are the stocks of species listed in the Annex to the NPAFC Convention (six species of Pacific salmon and steelhead trout), and ecologically-related species are the living marine species that are associated with anadromous stocks found in the Convention Area, including, but not restricted to, both predators and prey of anadromous fish. 16 U.S.C. 5002(1) & (8).

Non-government commissioners are not considered to be Federal employees except for the purposes of injury compensation or tort claims liability as provided in chapter 81 of title 5 and chapter 171 of title 28. 16 U.S.C. 5003(a).

In carrying out their official duties, a modest amount of travel is required. The total number of trips varies from year-to-year but is typically one trip per year lasting less than a week, usually to an international destination. Necessary travel expenses are paid by the U.S. Department of State. 16 U.S.C. 5003(e). Commissioners receive no compensation for their services. 16 U.S.C. 5003(d).

South Pacific Regional Fisheries Management Organization (SPRFMO)

SPRFMO is an intergovernmental organization established in 2012 by the Convention on the Conservation and Management of High Seas Fishery Resources in the South Pacific Ocean (SPRMO Convention). SPRFMO is committed to the long-term conservation and sustainable use of the fishery resources of the South Pacific Ocean and, in so doing, safeguarding the marine ecosystems in which the resources occur. The SPRFMO Convention applies to the high seas of the South Pacific, covering about a fourth of the Earth's high seas areas. Currently, the main commercial resources fished in the SPRFMO Area are Jack mackerel and jumbo flying squid in the Southeast Pacific and, to a much lesser degree, deep-sea species often associated with seamounts in the Southwest Pacific. More information on SPRFMO can be found at https://www.sprfmo.int/.

The implementing legislation for the SPRFMO (16 U.S.C. 7801 et seq.) provides that the Secretary of Commerce, in consultation with the Secretary of State and the Secretary of the department in which the Coast Guard is operating, may promulgate such regulations as may be necessary and appropriate to carry out the international obligations of the United States under the SPRFMO Convention, including implementation of SPRFMO conservation and management measures. 16 U.S.C. 7804(b).

The SPRFMO legislation also provides that the United States shall be represented in SPRFMO by not more than three U.S. Commissioners, who are appointed by and serve at the pleasure of the President and who are knowledgeable or experienced concerning fishery resources in the South Pacific Ocean. Of the Commissioners:

(1) One must be an officer or employee of the Department of Commerce, Department of State, or the Coast Guard; and

(2) One shall be the chairperson or designee of the Western Pacific Fishery Management Council.

Non-government commissioners are not considered to be Federal employees except for the purposes of injury compensation or tort claims liability as provided in chapter 81 of title 5 and chapter 171 of title 28. 16 U.S.C. 7802(c)(1).

In carrying out their official duties, a modest amount of travel to both domestic and international destinations is required. The total number of trips varies from year-to-year but typically includes one trip per year lasting less than two weeks, usually to an international destination. Necessary travel expenses are paid by the U.S. Department of State as provided under 16 U.S.C. 7802(c)(3). Commissioners (or Alternate Commissioners, see id. § 7802(b)) receive no compensation for their services. Id. § 7802(c)(2).

Western and Central Pacific Fisheries Commission (WCPFC)

WCPFC is an intergovernmental organization established by the Convention for the Conservation and Management of Highly Migratory Fish Stocks in the Western and Central Pacific Ocean (WCPFC Convention) which entered into force on 19 June 2004. The objective of WCPFC is to ensure, through effective management, the long-term conservation and sustainable use of highly migratory fish stocks in the western and central Pacific Ocean. The WCPFC Convention applies to all species of highly migratory fish stocks (defined as all fish stocks of the species listed in Annex I of the 1982 Convention occurring in the Convention Area and such other species of fish as the Commission may determine) within the WCPFC Convention Area, except sauries. Conservation and management measures under the WCPFC Convention are to be applied throughout the range of the stocks, or to specific areas within the WCPFC Convention Area, as determined by WCPFC. More information about WCPFC can be found at https://www.wcpfc.int/.

Pursuant to the Western and Central Pacific Fisheries Convention Implementation Act, 2007 (16 U.S.C. 6901 et seq.), the Secretary of Commerce, in consultation with the Secretary of State and, with respect to enforcement measures, the Secretary of Homeland Security, is authorized to promulgate such regulations as may be necessary to carry out the United States international obligations under the WCPFC Convention, including implementation of WCPFC conservation and management measures.

The Western and Central Pacific Fisheries Convention Implementation Act provides that the United States shall be represented in WCPFC by five U.S. Commissioners, appointed by and serving at the pleasure of the President, who must be knowledgeable or experienced concerning highly migratory fish stocks and commercial fishing in the western and central Pacific Ocean. Of the Commissioners:

(1) One must be an officer or employee of the Department of Commerce;

(2) One must be a Chairman or Member of the Western Pacific Fishery Management Council; and

(3) One must be a Chairman or Member of the Pacific Fishery Management Council.

Non-government commissioners are not considered to be Federal employees except for the purposes of injury compensation or tort claims liability as provided in chapter 81 of title 5 and chapter 171 of title 28.

In carrying out their official duties, a certain amount of travel to both domestic and international destinations is required. The total number of trips varies from year-to-year but may include up to three trips lasting a week or less, usually to an international destination, and one domestic trip for less than one week. Necessary travel expenses are paid by the U.S. Department of State. Commissioners receive no compensation for their services.

Nomination Process

NMFS is soliciting nominations for non-Federal Commissioner positions listed below. As explained in the Background Section, the purpose of this action is to develop a pool of qualified candidates, who can be considered, as the need arises, for recommendations for U.S. Commissioner vacancies or for designation as Alternate Commissioners. Pursuant to the RFMO statutes described below, there may be “up to” a certain number of non-Federal U.S. Commissioners. There is no limit though on the number of nominees that may be submitted for consideration. Successful nominees will be considered for appointment by the appropriate authority and, pending such action by that authority, may receive an interim designation by the Department of State, as needed and appropriate. Separate from any nominations received per this notice, NMFS and/or its federal agency partners may also independently make Commissioner recommendations. Current Commissioners that are interested in being included in the pool of qualified candidates may, but are not required to, indicate as such through self-nomination or nomination by someone else.

• IATTC: Up to three U.S. Commissioners who are not an officer or employee of the Department of Commerce. Not more than two U.S. Commissioners may be appointed who reside in a State other than a State whose vessels maintain a substantial fishery in the area of the Convention. Nomination packages for these positions should provide details of the nominee's knowledge and experience relative to highly migratory fish stocks in the eastern tropical Pacific Ocean, as well as current state of residence.

• ICCAT: Up to two U.S. Commissioners who are not salaried employees of any State or political subdivision thereof, or the Federal Government. Nomination packages for these positions should provide details of the nominee's knowledge and experience relative to commercial and/or recreational fishing, in particular for tuna, tuna-like species and other highly migratory species, in the Atlantic Ocean, Gulf of Mexico, or Caribbean Sea.

• IPHC: Up to two U.S. Commissioners who are not officials of NOAA. Nomination packages for these positions should provide details of the nominee's knowledge and experience relative to Pacific halibut, as well as current state of residence.

• NAFO: One U.S. Commissioner who is not an official of the Government. Nomination packages for this position should provide details of the nominee's knowledge and experience relative to the fishery resources to which the Convention applies, specifically as it relates to representing the commercial fishing industry.

• NASCO: Up to two U.S. Commissioners who are not officials of the U.S. Government. Nomination packages for these positions should provide details of the nominee's knowledge and experience relative to the conservation and management of salmon of U.S. origin.

• NPAFC: Up to two U.S. Commissioners who are not officials of the U.S. Government. Nomination packages for these positions should provide details of the nominee's knowledge and experience relative to the anadromous stocks and ecologically-related species of the North Pacific Ocean, as well as current state of residence. Note that to be considered for appointment, individuals must be a resident of the State of Alaska or the State of Washington.

• SPRFMO: One U.S. Commissioner who is knowledgeable or experienced concerning fishery resources in the South Pacific Ocean, and who is not an official of the U.S. Government or the selected Commissioner representative of the Western Pacific Fishery Management Council. Nomination packages for this position should provide details of the nominee's knowledge and experience relative to the fishery resources in the South Pacific Ocean.

• WCPFC: Up to two U.S. Commissioners who are not officers or employees of the Department of Commerce or the selected Commissioner representative of the Western Pacific Fishery Management Council or Pacific Fishery Management Council. Nomination packages for this position should provide details of the nominee's knowledge and experience relative to highly migratory fish stocks in the Western and Central Pacific Ocean.

Nomination packages submitted to recommend that an individual (not an official of the U.S. Government) be considered for the pool of Commissioner/Alternate Commissioner candidates should note the relevant RFMO(s) for consideration and include a resume or curriculum vitae that documents that individual's qualifications and state of residence. Self-nominations are acceptable. Letters of recommendation/support are useful but not required. Nomination packages will be evaluated by NOAA, in consultation with the Department of State and other federal agency partners as appropriate, on a case-by-case basis by officials who are familiar with the requirements, duties, and responsibilities of the respective positions.

Evaluations will consider the aggregate of an individual's prior experience and knowledge of the specific fisheries concerned, any applicable residency or other legal requirements, and any letters of recommendation provided.

Dated: May 18, 2022.
Alexa Cole,
Director, Office of International Affairs, Trade, and Commerce, National Marine Fisheries Service.

[FR Doc. 2022-11159 Filed 5-23-22; 8:45 am]

BILLING CODE 3510-22-P